DEPARTMENT OF COMMERCE

National Oceanic and Atmospheric Administration

RIN 0649-XE951

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a Post Council Meeting Briefing for the public via webinar.

DATES: The meeting will convene on Wednesday, October 26, 2016; starting at 6 p.m. EDT and ending no later than 9 p.m. EDT.

ADDRESSES: The meeting will take place via webinar at: https://attendee.gotowebinar.com/register/3042382036761235202.

Council address: Gulf of Mexico Fishery Management Council, 2203 N. Lois Avenue, Suite 1100, Tampa, FL 33607; telephone: (813) 348-1630.

FOR FURTHER INFORMATION CONTACT: Emily Muehlstein, Fisheries Outreach Specialist, Gulf of Mexico Fishery Management Council; emily.muehlstein@gulfcouncil.org, telephone: (813) 348-1630.

SUPPLEMENTARY INFORMATION:

Agenda

1. Welcome and Introductions

2. Review of Council actions taken during the October, 2016 Council Meeting

3. Questions and Answers

4. Adjourn

You may register for the Post October Council Meeting Briefing Webinar at: https://attendee.gotowebinar.com/register/3042382036761235202.

After registering, you will receive a confirmation email containing information about joining the webinar.

Dated: October 6, 2016.
Tracey L. Thompson,
Acting Deputy Director, Office of Sustainable Fisheries, National Marine Fisheries Service.

[FR Doc. 2016-24712 Filed 10-12-16; 8:45 am]

BILLING CODE 3510-22-P